DEPARTMENT OF COMMERCE

Bureau of Industry and Security

15 CFR Part 744

[Docket No. 231204-9999]

RIN 0694-AJ51

Addition of Entities to the Entity List

AGENCY: Bureau of Industry and Security, Department of Commerce.

ACTION: Final rule.

SUMMARY: In this rule, the Bureau of Industry and Security (BIS) amends the Export Administration Regulations (EAR) by adding forty-two entities under forty-four entries to the Entity List. These entities are listed under the destinations of Armenia (3), Belarus (1), Belgium (3), China, People's Republic of (China) (1), Cyprus (4), Germany (1), Kazakhstan (1), Netherlands (1), Russia (28), and the United Arab Emirates (1). Two entities are added to the Entity List under two destinations, accounting for the difference in the totals. These entities have been determined by the U.S. Government to be acting contrary to the national security or foreign policy interests of the United States.

DATES: This rule is effective December 7, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Elem Group, LLC, under the destination of Kazakhstan, to the Entity List pursuant to § 744.11 of the EAR for posing a risk of diversion of items subject to the EAR to Russia. The ERC determined to add Hans Maria De Geetere, Knokke-Heist Support Management Corporation, and European Technical Trading BV under the destination of Belgium; Eriner Limited and The Mother Ark., under the destination of Cyprus; and Hasa Nederland B.V., under the destination of the Netherlands to the Entity List. These entities are involved in ongoing efforts to circumvent U.S. export controls on sensitive military electronics, contrary to U.S. national security and foreign policy interests under § 744.11 of the EAR. Specifically, these entities acquired and illicitly diverted U.S.-origin electronic components on behalf of parties in China and Russia. These components can be used in military applications including missiles, unmanned aerial vehicles, electronic warfare receivers, and military radar. Further, Hans Maria De Geetere has falsified official documents and provided false end-user information to U.S. and foreign companies to circumvent export controls and sanctions. At times, these falsified documents were also used for export license applications.

The ERC determined to add two individuals, Aram Kocharyan and Hermine Kocharyan, and one company, ARM-BEKAR LLC, under the destination of Armenia; one individual, Alexander Nikolayevich Vadyunin, and one company, OOO Aviation Service Int'l, under the destinations of both Cyprus and Russia; one company, FTL GmBH, under the destination of Germany; one company, RosAero FZC, under the destination of the United Arab Emirates; and three companies, Aircompany North-West LLC, North-West Technics LLC, and RosAero JSC, under the destination of Russia to the Entity List for engaging in or enabling activities contrary to U.S. national security and foreign policy interests under § 744.11 of the EAR. Specifically, these entities and individuals are believed to have procured and transshipped U.S.-origin avionics equipment to Russia, including to governmental entities and military end users, both before and after Russia's invasion of Ukraine on February 24, 2022. For these seventeen entities under nineteen entries, BIS imposes a license requirement for all items subject to the EAR and will review license applications under a presumption of denial.

The ERC also determined to add to the Entity List, for engaging in activities contrary to the national security and foreign policy interests under § 744.11 of the EAR, the following thirteen entities: Argussoft Company LLC; AST Components; ATB Electronica LLC; Digicom, LTD.; Elektrokom VPK; Inelso LLC; Intekh LLC; JSC Yue Complex Service Solutions; PF RIELTA LLC; Prius Electronics LLC; PT Air; and YE-International AO, under the destination of Russia, and Nanotech Ltd under the destination of Belarus. Specifically, these entities have performed contracts for Russian government entities, including entities in the Russian defense sector, have engaged in dealings with entities on Entity List, including entities designated as Russian `military end users', or have dealings with entities that are subject to sanctions administered by the Department of the Treasury's Office of Foreign Assets Control. Additionally, the ERC determined to add Planet Technology, under the destination of China, to the Entity List on the basis of actions and activities that are contrary to the national security and foreign policy interests of the United States. Specifically, this entity has procured U.S.-origin items that were recovered from a downed Iranian drone used by Russia in Ukraine. These fourteen entities qualify as military end users under § 744.21(g) of the EAR. These entities are receiving a footnote 3 designation because the ERC has determined that they are Russian or Belarusian `military end users' pursuant to § 744.21. A footnote 3 designation subjects these entities to the Russia/Belarus-Military End User Foreign Direct Product (FDP) rule, detailed in § 734.9(g). These fourteen entities are added with a license requirement for all items subject to the EAR and a license review policy of denial.

Finally, the ERC determined to add AO Geomir, AO SET-1, Dolphin Alabuga LLC, OOO Alabuga-Volokno, OOO Albatross, OOO Alb.Aero, OOO Assistagro, OOO Druzhba, OOO Geomiragro, OOO SMU5, and OOO Ural-Trast, all under the destination of Russia, to the Entity List based on information that these companies significantly contribute to Russia's military and/or defense industrial base in connection with the development of military-grade drones in Russia. This activity is contrary to U.S. national security and foreign policy interests under § 744.11(b) and these entities qualify as military end users under § 744.21(g) of the EAR. These entities are receiving a footnote 3 designation because the ERC has determined that they are Russian or Belarusian `military end users' pursuant to § 744.21. A footnote 3 designation subjects these entities to the Russia/Belarus-Military End User Foreign Direct Product (FDP) rule, detailed in § 734.9(g) of the EAR. These eleven entities are added with a license requirement for all items subject to the EAR and a license review policy of denial for all items subject to the EAR apart from food and medicine designated as EAR99, which will be reviewed on a case-by-case basis.

For the reasons described above, this final rule adds the following forty-two entities under forty-four entries, including aliases where appropriate, to the Entity List:

Armenia

• Aram Kocharyan;

• ARM-BEKAR LLC; and

• Hermine Kocharyan.

Belarus

• Nanotech Ltd.

Belgium

• European Technical Trading BV;

• Hans Maria De Geetere; and

• Knokke-Heist Support Management Corporation.

China

• Planet Technology.

Cyprus

• Alexander Nikolayevich Vadyunin;

• Eriner Limited;

• OOO Aviation Service Int'l; and

• The Mother Ark.

Germany

• FTL GmBH.

Kazakhstan

• Elem Group, LLC.

Netherlands

• Hasa Nederland B.V.

Russia

• Aircompany North-West LLC;

• Alexander Nikolayevich Vadyunin;

• AO Geomir;

• AO SET-1;

• Argussoft Company LLC;

• AST Components;

• ATB Electronica LLC;

• Digicom, LTD.;

• Dolphin Alabuga LLC;

• Elektrokom VPK;

• Inelso LLC;

• Intekh LLC;

• JSC Yue Complex Service Solutions;

• North-West Technics LLC;

• OOO Alabuga-Volokno;

• OOO Albatross;

• OOO Alb.Aero;

• OOO Assistagro;

• OOO Aviation Service Int'l;

• OOO Druzhba;

• OOO Geomiragro;

• OOO SMU5;

• OOO Ural-Trast;

• PF RIELTA LLC;

• Prius Electronics LLC;

• PT Air;

• RosAero JSC; and

• YE-International AO.

United Arab Emirates

• RosAero FZC.

Savings Clause

For the changes being made in this final rule, shipments of items removed from eligibility for a License Exception or export, reexport, or transfer (in-country) without a license (NLR) as a result of this regulatory action that were en route aboard a carrier to a port of export, reexport, or transfer (in-country), on December 7, 2023, pursuant to actual orders for export, reexport, or transfer (in-country) to or within a foreign destination, may proceed to that destination under the previous eligibility for a License Exception or export, reexport, or transfer (in-country) without a license (NLR) before January 8, 2024. Any such items not actually exported, reexported or transferred (in-country) before midnight, on January 8, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Amend supplement no. 4:

a. Under ARMENIA, by adding, in alphabetical order, entries for “Aram Kocharyan;” “ARM-BEKAR LLC;” and “Hermine Kocharyan;”

b. Under BELARUS, by adding, in alphabetical order, an entry for “NanoTech Ltd;”

c. Under BELGIUM, by adding, in alphabetical order, entries for “European Technical Trading BV;” “Hans Maria De Geetere;” and “Knokke-Heist Support Management Corporation;”

d. Under CHINA, by adding, in alphabetical order, an entry for “Planet Technology;”

e. Under CYPRUS, by adding, in alphabetical order, entries for “Alexander Nikolayevich Vadyunin;” “Eriner Limited;” “OOO Aviation Service Int'l;” and “The Mother Ark.;”

f. Under GERMANY, by adding, in alphabetical order, an entry for “FTL GmBH;”

g. Under KAZAKHSTAN, by adding in alphabetical order, an entry for “Elem Group, LLC;”

h. Under NETHERLANDS, by adding in alphabetical order, an entry for “Hasa Nederland B.V.;”

i. Under RUSSIA, by adding, in alphabetical order, entries for “Aircompany North-West LLC;” “Alexander Nikolayevich Vadyunin;” “AO Geomir;” “AO SET-1;” “Argussoft Company LLC;” “AST Components;” “ATB Electronica LLC;” “Digicom, LTD.;” “Dolphin Alabuga LLC;” “Elektrokom VPK;” “Inelso LLC;” “Intekh LLC;” “JSC Yue Complex Service Solutions;” “North-West Technics LLC;” “OOO Alabuga-Volokno;” “OOO Albatross;” “OOO Alb.Aero;” “OOO Assistagro;” “OOO Aviation Service Int'l;” “OOO Druzhba;” “OOO Geomiragro;” “OOO SMU5;” “OOO Ural-Trast;” “PF RIELTA LLC;” “Prius Electronics LLC;” “PT Air;” “RosAero JSC;” and “YE-International AO;” and

j. Under UNITED ARAB EMIRATES, by adding, in alphabetical order, an entry for “RosAero FZC.” to read as follows:

Supplement No. 4 to Part 744—Entity List

* * * * *

Country | Entity | License requirement | License review policy | Federal Register citation
* * * * * * *
ARMENIA | Aram Kocharyan, Aram Khachatrian 12, Apt 93, Yerevan, 0015, Armenia. | For all items subject to the EAR (See § 744.11 of the EAR) | Presumption of denial | 88 FR [INSERT FR PAGE NUMBER] 12/7/2023.
| ARM-BEKAR LLC, Aram Khachatrian 12, Apt 93, Yerevan, 0015, Armenia. | For all items subject to the EAR (See § 744.11 of the EAR) | Presumption of denial | 88 FR [INSERT FR PAGE NUMBER] 12/7/2023.
| * * * * * *
| Hermine Kocharyan, Aram Khachatrian 12, Apt 93, Yerevan, 0015, Armenia. | For all items subject to the EAR (See § 744.11 of the EAR) | Presumption of denial | 88 FR [INSERT FR PAGE NUMBER] 12/7/2023.
* * * * * * *
BELARUS | * * * * * *
| Nanotech Ltd, a.k.a., the following one alias: —OOO NANOTEKH. 6 Oginskogo Street, Minsk, 220114, Belarus. | For all items subject to the EAR. (See §§ 734.9(g),³ 746.8(a)(3), and 744.21(b) of the EAR) | Policy of denial | 88 FR [INSERT FR PAGE NUMBER] 12/7/2023.
| * * * * * *
BELGIUM | European Technical Trading BV, a.k.a., the following one alias: —ETT BV. 24 Booiebos, Ghent, Flemish Region, 9031, Belgium. | For all items subject to the EAR (See § 744.11 of the EAR) | Presumption of denial | 88 FR [INSERT FR PAGE NUMBER] 12/7/2023.
| Hans Maria De Geetere, a.k.a., the following one alias: —Hans De Geetere. 121 Paul Parmentierlaan, Knokke-Heist, 8300, Belgium; and 4 Nyckeestraat, Knokke-Heist, 8300, Belgium. | For all items subject to the EAR (See § 744.11 of the EAR) | Presumption of denial | 88 FR [INSERT FR PAGE NUMBER] 12/7/2023.
| * * * * * *
| Knokke-Heist Support Management Corporation, a.k.a., the following two aliases: —Hasa-Invest; and —Knokke-Heist Support Corporation Management. | For all items subject to the EAR (See § 744.11 of the EAR) | Presumption of denial | 88 FR [INSERT FR PAGE NUMBER] 12/7/2023.
| 121 Paul Parmentierlaan, Knokke-Heist, 8300, Belgium; and 4 Nyckeestraat, Knokke-Heist, 8300, Belgium.
| * * * * * *
CHINA, PEOPLE'S REPUBLIC OF | * * * * * *
| Planet Technology, a.k.a., the following five aliases: —Planet Technology (Hong Kong) Ltd.; —Planet Technologies; —Planetec; —Stellar Technology (Hong Kong) Co., Ltd.; and —Pailai (Shanghai) Trading Co., Ltd. | For all items subject to the EAR. (See §§ 734.9(g),³ 746.8(a)(3), and 744.21(b) of the EAR) | Policy of denial | 88 FR [INSERT FR PAGE NUMBER] 12/7/2023.
| 15th Floor, New Times Center, 391-407 Jaffe Road, Wanchai, Hong Kong; and Room 2116, 21st Floor, Elevator No. 12, East District, Huaneng Building, No. 2068, Shennan Middle Road, Huaqiangbei Street, Futian District, Shenzhen, Guangdong, China; and Room 1604, West Tower, Zhongrong Hengrui Building, No. 560 Zhangyang Road, Pudong, Shanghai, China; and Room 2002, Wuxing Nianhua Business Building, No. 139 Hanzhong Road, Qinhuai District, Nanjing City, Jiangsu Province, China; and Room 805, Block 1, Guanghua Chang'an Building, No. 7 Jianguomen Inner Street, Dongcheng District, Beijing, China; and Room 13-2-407, Phase III, New Territories, No. 85, East 3rd Street, Taipingyuan, Wuhou District, Chengdu City, Sichuan Province, China.
* * * * * * *
CYPRUS | Alexander Nikolayevich Vadyunin, Flat 202, Block 7 Kings Palace, 106 Tomb of the Kings Road, Paphos, 8015, Cyprus. (See alternate addresses under Russia) | For all items subject to the EAR (See § 744.11 of the EAR) | Presumption of denial | 88 FR [INSERT FR PAGE NUMBER] 12/7/2023.
| * * * * * *
| Eriner Limited, a.k.a., the following one alias: —Eriner LTD. Inomenon Ethon 44, Orthodoxou Tower 3, 3rd floor, Larnaca 6042, Cyprus. | For all items subject to the EAR (See § 744.11 of the EAR) | Presumption of denial | 88 FR [INSERT FR PAGE NUMBER] 12/7/2023.
| * * * * * *
| OOO Aviation Service Int'l, a.k.a., the following two aliases: —Aviation Services Int'l; and —Aviation Service International. | For all items subject to the EAR (See § 744.11 of the EAR) | Presumption of denial | 88 FR [INSERT FR PAGE NUMBER] 12/7/2023.
| 106 Tomb of the Kings Road, Flat 202, Block 7 Kings Palace, Paphos, 8015, Cyprus. (See alternate addresses under Russia)
| * * * * * *
| The Mother Ark., Inomenon Ethon 44, Orthodoxou Tower 3, 3rd floor Larnaca, 6042, Cyprus. | For all items subject to the EAR (See § 744.11 of the EAR) | Presumption of denial | 88 FR [INSERT FR PAGE NUMBER] 12/7/2023.
| * * * * * *
GERMANY | * * * * * *
| FTL GmBH, a.k.a., the following one alias: —Fast Transport Logistics GmBH. Konrad-Zuse-Ring 15A, Schoneck, 61137, Germany. | For all items subject to the EAR (See § 744.11 of the EAR) | Presumption of denial | 88 FR [INSERT FR PAGE NUMBER] 12/7/2023.
| * * * * * *
KAZAKHSTAN | * * * * * *
| Elem Group, LLC, a.k.a. the following one alias: —Elem Group. 8 Nauryzbai Batyr Street Almaty, 050004, Kazakhstan; and 98 Panfilov St., Almaty, 050000, Kazakhstan. | For all items subject to the EAR. (See § 744.11 of the EAR) | Presumption of denial | 88 FR [INSERT FR PAGE NUMBER] 12/7/2023.
| * * * * * *
NETHERLANDS | * * * * * *
| Hasa Nederland B.V., a.k.a., the following one alias: —European Trading Technology BV. Nieuwstraat 56F, 4524 EG Sluis, Netherlands. | For all items subject to the EAR (See § 744.11 of the EAR) | Presumption of denial | 88 FR [INSERT FR PAGE NUMBER] 12/7/2023.
| * * * * * *
RUSSIA | * * * * * *
| Aircompany North-West LLC, a.k.a. the following two aliases: —North-West Airlines; and —North-West Aircompany. | For all items subject to the EAR (See § 744.11 of the EAR) | Presumption of denial | 88 FR [INSERT FR PAGE NUMBER] 12/7/2023.
| West Park Business Center, Highway Ochakovskoe 34, Office 201, Moscow, 119530, Russia; and Konstitutsii Square 7, Building A Office 71H, Saint Petersburg, 196191, Russia.
| * * * * * *
| Alexander Nikolayevich Vadyunin, 154 Block 1 Building 57, Privolnaya Street, Moscow, 109453, Russia; and #301, Building 15, B. Dimitrovka St, Moscow, 125009, Russia; and #313, Block 11 Building 1, Partiyny Pereulok, Moscow, 125009, Russia; and #603, Block 1 Building 8A, Ryazanski Prospekt, Moscow, Russia; and Privolnaya St., Dom 57, Kor 1, Moscow, Russia. (See alternate address under Cyprus) | For all items subject to the EAR (See § 744.11 of the EAR) | Presumption of denial | 88 FR [INSERT FR PAGE NUMBER] 12/7/2023.
| * * * * * *
| AO Geomir, a.k.a., the following five aliases: —Inzhenemy Tsentr Geomir, AO; —Inzhenerny Center Geomir; —ZAO Inzhenemyy Tsentr Geomir; —CJSC Engineering Center Geomir; and —JSC Geomir. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| 50 Olimpiyskiy Prospekt, Mytishchi, Moscow Oblast, 141006, Russia; and 24 Mel'nichnyy pereulok, Voronezh, 394030, Russia; and 249 Krasnykh Partizan St., Office 209/2, Krasnodar, 350047, Russia; and 39 Molodogvardeysky Lane, Office 2, Rostov-on-Don, 344029, Russia.
| * * * * * *
| AO SET-1, a.k.a., the following three aliases: —AO Set-1; —Set-1 JSC; and —Cet-1 JSC. 38A 2nd Khutorskaya St., Bldg. 1, office 614, Moscow, 127287, Russia; and St. Pervomaiskaya Verkhn, 43, Moscow, 105264, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| Argussoft Company LLC, 35 Bolshaya Yakimanka Street, Floor 1, Room 5/II/1-2, Moscow, 119049, Russia; and 9 Godovikova, Street, Building 2, Floor 1, Room IX, Moscow, 129085, Russia; and 104 Pervomayskaya Street, Office 206/3, Floor 2, Yekaterinburg, 620990, Russia. | For all items subject to the EAR. (See §§ 734.9(g),³ 746.8(a)(3), and 744.21(b) of the EAR) | Policy of denial | 88 FR [INSERT FR PAGE NUMBER] 12/7/2023.
| * * * * * *
| AST Components, 56 Entuziastov Highway, Str 32, Floor 2, Rooms 219,221, Moscow, 111123, Russia; and 11 Kasatkina Street, Building 2, Moscow 129301, Russia. | For all items subject to the EAR. (See §§ 734.9(g),³ 746.8(a)(3), and 744.21(b) of the EAR) | Policy of denial | 88 FR [INSERT FR PAGE NUMBER] 12/7/2023.
| ATB Electronica LLC, a.k.a. the following three aliases: —ATB Electronica; —ATB ELEKTRONICA; and —ATB Electronics. | For all items subject to the EAR. (See §§ 734.9(g),³ 746.8(a)(3), and 744.21(b) of the EAR) | Policy of denial | 88 FR [INSERT FR PAGE NUMBER] 12/7/2023.
| 2 24 Pravdy Street, Building 7, Floor 1, Premises X, Room 12, Moscow, 125124, Russia; and Building 2, 11 Kasatkina St., Moscow, 129301, Russia.
| * * * * * *
| Digicom, LTD.,16-Ya Parkovaya Street, Building 26, K 1 Office 4201, Moscow, 105484, Russia. | For all items subject to the EAR. (See §§ 734.9(g),³ 746.8(a)(3), and 744.21(b) of the EAR) | Policy of denial | 88 FR [INSERT FR PAGE NUMBER] 12/7/2023.
| * * * * * *
| Dolphin Alabuga LLC, a.k.a., the following two aliases: —OOO Dolphin Alabuga; and —Delfin Alabuga LLC. SEZ Alabuga, Yelabuga, Tatarstan, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| Elektrokom VPK, a.k.a. the following one alias: —Electrocom VPK. 99 Prosveshcheniya Avenue, Letter A, Room 180N, Office 1, Saint Petersburg, 195299, Russia; and Building 2, 11 Kasatkina St., Moscow, 129301, Russia. | For all items subject to the EAR. (See §§ 734.9(g),³ 746.8(a)(3), and 744.21(b) of the EAR) | Policy of denial | 88 FR [INSERT FR PAGE NUMBER] 12/7/2023.
| * * * * * *
| Inelso LLC, 3 Gelsingforsskaya Street, Letter Z, Room 412, Sampsonievsk Municipal Okrug, Saint Petersburg, 194044, Russia; and Serpukhov Dvor Business Center, 2Y Roshchinskiy Proyezd, 8, Moscow, 115419, Russia. | For all items subject to the EAR. (See §§ 734.9(g),³ 746.8(a)(3), and 744.21(b) of the EAR) | Policy of denial | 88 FR [INSERT FR PAGE NUMBER] 12/7/2023.
| * * * * * *
| Intekh LLC, a.k.a., the following one alias: —Aspectriym Limited Trade Development. 9 Svyazistov Street, Office 4, Krasnoznamensk, Moscow Oblast, 143090, Russia. | For all items subject to the EAR. (See §§ 734.9(g),³ 746.8(a)(3), and 744.21(b) of the EAR) | Policy of denial | 88 FR [INSERT FR PAGE NUMBER] 12/7/2023.
| * * * * * *
| JSC Yue Complex Service Solutions, a.k.a., the following one alias: —OOO YE KSR. 70 Obukhovskoy Oborony Avenue, Building 3A Saint Petersburg, 192029, Russia; and 34 Entuziastov Highway, Office D-2-1, Moscow, 105118, Russia. | For all items subject to the EAR. (See §§ 734.9(g),³ 746.8(a)(3), and 744.21(b) of the EAR.) | Policy of denial | 88 FR [INSERT FR PAGE NUMBER] 12/7/2023.
| * * * * * *
| North-West Technics LLC, West Park Business Center, Highway Ochakovskoe 34, Office 201, Moscow, Russia 119530; and Konstitutsii Square 7, Building A Office 71H, Saint Petersburg, 196191, Russia. | For all items subject to the EAR (See § 744.11 of the EAR) | Presumption of denial | 88 FR [INSERT FR PAGE NUMBER] 12/7/2023.
| * * * * * *
| OOO Alabuga-Volokno, a.k.a., the following one alias: —Alabuga-Fibre LLC. Territoriya Oez Alabuga, Ul. Sh-2 Korp. 4/1, Yelabuga 423600, Russia; and Ul. Sh-2 Oez Alabuga Terr. Str 11/9, Volga 423601, Russia; and Ul. Krzhizhanovskogo D. 14, Korp. 3, Moscow, 117218, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| OOO Albatross, a.k.a., the following two aliases: —OOO Albatros; and —Albatross LLC. Sh-1 St., Building 8/1, SEZ Alabuga, Yelabuga, Tatarstan, Russia; and Sh-1 St., Building 4/1 First Floor, SEZ Alabuga, Yelabuga, Tatarstan, Russia; and Sh-1 St., Building 5/2 Room 253, SEZ Alabuga, Yelabuga, Tatarstan, Russia; and Bldg. 34 St. Mykluho-Maklay Moscow, 117229, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| OOO Alb.Aero a.k.a., the following one alias: —Alb.Aero LLC. 29A, Building 17 Floor 2 Room 1, M.K. Tikhonravova St., Yubileiny Microdistrict, Korolyov, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| OOO Assistagro, a.k.a., the following one alias: —Assistagro LLC. 35 Valovaya Street, Room 256, Wall Street Business Center, Moscow, 115054, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| OOO Aviation Service Int'l, a.k.a., the following two aliases: —Aviation Services Int'l; and —Aviation Service International. | For all items subject to the EAR (See § 744.11 of the EAR) | Presumption of denial | 88 FR [INSERT FR PAGE NUMBER] 12/7/2023.
| 154 Block 1 Building 57, Privolnaya Street, Moscow, Russia 109453; and #301, Building 15, B. Dimitrovka St, Moscow, 125009, Russia; and #313, Block 11 Building 1, Partiyny Pereulok, Moscow, 125009, Russia; and #603, Block 1 Building 8A, Ryazanski Prospekt, Moscow, Russia; and Privolnaya Str., Dom 57, Kor 1, Moscow, Russia. (See alternate address under Cyprus)
| OOO Druzhba,Ul. Profsoyuznaya d.3 Balei,Zabaikalski Kr., 673450, Russia; and Ul. Golosova, 30, Kv. 59, Toliatti, Samara Oblast, 445021, Russia; and 114 Ul. Nikolaia Gogolia, Bugulma, R-N Bugulminskii, Republic of Tatarstan, 433230, Russia; and D. 440 Kv. 41, Ul. Karla Marksa Izhevsk, Udmurtia Republic 426011, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| OOO Geomiragro, 5 Kolontsova St., Premises 302, Mytishchi, Moscow Oblast, 141009, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBE] 12/7/2023.
| * * * * * *
| OOO SMU5, Kosmonavtov, D. 9 Kv., Korolev St., Moscow, 141075, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| OOO Ural-Trast, 440 Karla Marksa St., Apt. 41, Izhevsk, Udmurt Republic, 426011, Russia. | For all items subject to the EAR (See §§ 734.9(g)³, 746.8(a)(3), and 744.2l(b) of the EAR) | Policy of denial for all items subject to the EAR apart from food and medicine designated as EAR99, which will be reviewed on a case-by-case basis. See §§ 746.8(b) and 744.21(e) | 88 FR [INSERT FR PAGE NUMBER] 12/7/2023.
| * * * * * *
| PF RIELTA LLC, 34B Petrogradskaya Embankment, Letter B Room 1-N, Room 208V, Posadsky Municipal District, St. Petersburg, 197046, Russia. | For all items subject to the EAR. (See §§ 734.9(g),³ 746.8(a)(3), and 744.21(b) of the EAR) | Policy of denial | 88 FR [INSERT FR PAGE NUMBER] 12/7/2023.
| * * * * * *
| Prius Electronics LLC, 44. Bolshaya Akademicheskaya St., Building 2, Floor 9, POM 15, Room 6, 6A, Timiryazevsky Municipal District, Moscow, 127434, Russia. | For all items subject to the EAR. (See §§ 734.9(g),³ 746.8(a)(3), and 744.21(b) of the EAR) | Policy of denial | 88 FR [INSERT FR PAGE NUMBER] 12/7/2023.
| * * * * * *
| PT Air, 6B Ivana Fomina Street, Room 340, Saint Petersburg, 194295, Russia; and St. Rossolimo, 17, Building 5, Office 521b, St. Petersburg, 119021, Russia. | For all items subject to the EAR. (See §§ 734.9(g),³ 746.8(a)(3), and 744.21(b) of the EAR) | Policy of denial | 88 FR [INSERT FR PAGE NUMBER] 12/7/2023.
| * * * * * *
| RosAero JSC, a.k.a. the following three aliases: —AeroGeoTech; —AeroGeoTech-ROSAERO; and —AGT RosAero. | For all items subject to the EAR (See § 744.11 of the EAR) | Presumption of denial | 88 FR [INSERT FR PAGE NUMBER] 12/7/2023.
| Mikhalkovskaya 63B, St. 1, Moscow, 125438, Russia; and 24, Smolnaya Street, Office 1417, Moscow, 125445, Russia.
| * * * * * *
| YE-International AO, 70 Obukhovskoy Oborony Avenue, Building 3A, St. Petersburg, 192029, Russia; and 34 Entusiastov Street, Office B.4.1, Moscow, 105118, Russia; and 55 Kuybysheva Street, Office 503, Ekaterinburg, 620144, Russia; and 166 Gagarina Prospect, Office 203, Nizhny Novgorod, 603009, Russia; and 40 Kommunisticheskaya Street, Office 501, Novosibirsk, 630007, Russia. | For all items subject to the EAR. (See §§ 744.11 of the EAR) | Policy of denial | 88 FR [INSERT FR PAGE NUMBER] 12/7/2023.
| * * * * * *
UNITED ARAB EMIRATES | * * * * * *
| RosAero FZC, a.k.a. the following two aliases: —AGT SP Trading FZE; and —AGT Trading. | For all items subject to the EAR (See § 744.11 of the EAR) | Presumption of denial | 88 FR [INSERT FR PAGE NUMBER] 12/7/2023.
| R2, Sharjah Airport Free Zone Street, Office 806, Sharjah, United Arab Emirates; and PO Box 120683, Saif-Zone, Sharjah, United Arab Emirates; and . SM-Office E1-1414D, Ajman Free Zone, Ajman, United Arab Emirates.
| * * * * * *

* * * * *

Matthew S. Borman,
Deputy Assistant Secretary for Export Administration.

[FR Doc. 2023-26935 Filed 12-5-23; 11:15 am]

BILLING CODE 3510-33-P